FEDERAL DEPOSIT INSURANCE CORPORATION

Sunshine Act Meeting

Pursuant to the provisions of the “Government in the Sunshine Act” (5 U.S.C. 552b), notice is hereby given that the Federal Deposit Insurance Corporation's Board of Directors will meet in open session at 10:00 a.m. on Tuesday, August 20, 2019, to consider the following matters:

Summary Agenda

No substantive discussion of the following items is anticipated. These matters will be resolved with a single vote unless a member of the Board of Directors requests that an item be moved to the discussion agenda.

Disposition of Minutes of a Board of Directors' Meeting Previously Distributed.

Memorandum and resolution re: Final Rule to Increase the Appraisal Threshold for Residential Real Estate Transactions, Implement the Rural Residential Appraisal Exemption, and Require Appropriate Appraisal Review.

Memorandum and resolution re: Final Rule to Increase the Major Assets Threshold Under the Depository Institutions Management Interlocks Act.

Memorandum and resolution re: Notice of Proposed Rulemaking: Removal of Transferred OTS Regulation at Part 390, Subpart M—Deposits.

Memorandum and resolution re: Notice of Proposed Rulemaking Regarding the Use of Certain Assessment Credits.

Memorandum and resolution re: Proposed Interagency Policy Statement on Allowances for Credit Losses.

Report of actions taken pursuant to authority delegated by the Board of Directors.

Discussion Agenda

Memorandum and resolution re: Final Rule: Revisions to Prohibitions and Restrictions on Proprietary Trading and Certain Interests in, and Relationships with, Hedge Funds and Private Equity Funds.

Memorandum and resolution re: Notice of Proposed Rulemaking on Interest Rate Restrictions Applicable to Less than Well Capitalized Banks.

The meeting will be held in the Board Room located on the sixth floor of the FDIC Building located at 550 17th Street NW, Washington, DC.

This Board meeting will be Webcast live via the internet and subsequently made available on-demand approximately one week after the event. Visit http://fdic.windrosemedia.com to view the event. If you need any technical assistance, please visit our Video Help page at: https://www.fdic.gov/video.html.

The FDIC will provide attendees with auxiliary aids (e.g., sign language interpretation) required for this meeting. Those attendees needing such assistance should call 703-562-2404 (Voice) or 703-649-4354 (Video Phone) to make necessary arrangements.

Requests for further information concerning the meeting may be directed to Mr. Robert E. Feldman, Executive Secretary of the Corporation, at 202-898-7043.

Dated at Washington, DC, on August 13, 2019.
Federal Deposit Insurance Corporation.
Robert E. Feldman,
Executive Secretary.

[FR Doc. 2019-17955 Filed 8-15-19; 4:15 pm]

BILLING CODE 6714-01-P